DEPARTMENT OF AGRICULTURE

Agricultural Marketing Service

[Document No. AMS-TM-25-0011]

Notice of Extension and Request for Revision of a Currently Approved Information Collection for the Regional Food Business Center Program

AGENCY: Agricultural Marketing Service, USDA.

ACTION: Notice and request for comments.

SUMMARY: In accordance with the Paperwork Reduction Act of 1995, this notice announces the Agricultural Marketing Service's (AMS) intention to extend its current approval from the Office of Management and Budget to collect information for the Regional Food Business Center Program under its Local and Regional Foods Division.

DATES: Comments on this notice must be received by June 2, 2025 to be assured of consideration.

ADDRESSES: Interested persons are invited to submit comments concerning this information collection notice Comments should be submitted online at https://www.regulations.gov or mailed to Samantha Schaffstall Dopp, Local and Regional Foods Division, Outreach and Technical Assistance Branch Chief, AMS Transportation and Marketing Program, 1220 SW 3rd Ave., Suite 305, Portland, OR 97204. Comments should reference the document number and the date and page number of this issue of the Federal Register. Comments submitted in response to this notice will be included in the public record and can be viewed at: https://www.regulations.gov. Please be advised that the identity of the individuals or entities submitting the comments will be made public on the internet at the address provided above.

FOR FURTHER INFORMATION CONTACT: Samantha Schaffstall Dopp, Local and Regional Foods Division, Outreach and Technical Assistance Branch Chief, AMS Transportation and Marketing Program, 1220 SW 3rd Ave., Suite 305, Portland, OR 97204; Telephone: (202) 236-2668; or Email: Samantha.Schaffstall@usda.gov.

SUPPLEMENTARY INFORMATION:

Title: Regional Food Business Center Program.

OMB Number: 0581-0335.

Expiration Date of Approval: July 31, 2025.

Type of Request: Extension and revision of a currently approved information collection.

Abstract: The Regional Food Business Center Program is authorized pursuant to the authority of Division N, Title VII, subtitle B, Section 751 of the Consolidated Appropriations Act of 2021 (Pub. L. 116-260) and is implemented through the Uniform Administrative Requirements, Cost Principles, and Audit Requirements for Federal Awards (Super Circular) (2 CFR part 200). The AMS Local and Regional Foods Division requests to extend its current approval to collect information for its Regional Food Business Center Program. The Regional Food Business Center Program, authorized and funded by the Consolidated Appropriations Act of 2021, is a partnership between Agricultural Marketing Service (AMS) and twelve organizations designed to spur business growth, accelerate market development, and enhance supply chain resilience for farms and food businesses across the United States. The Regional Food Business Centers will also provide technical assistance to increase economic viability, create new market opportunities, and enhance competitiveness of small and mid-sized food businesses.

The twelve organizations leading the Regional Food Business Centers have active cooperative agreements with AMS. The information collected is needed to certify that cooperators are complying with applicable program regulations, and the data collected is the minimum information necessary to effectively carry out the program requirements. The information collection requirements in this request are essential to carry out the intent of section 751 of the Consolidated Appropriations Act of 2021, to provide the respondents service they need, and for AMS to administer this program. AMS is the primary user of the information. The burden of the Regional Food Business Center is as follows:

Estimate of Burden (Total annual burden divided by estimated number of responses per respondent): 25.6.

Respondents: Cooperative agreement recipients.

Estimated Number of Respondents: 12.

Estimated Total Annual Responses including Recordkeeping: 169.

Estimated Number of Annual Responses per Respondent: 14.

Estimated Total Annual Burden on Respondents and Recordkeepers: 358.

Comments: Comments are invited on: (1) whether the collection of information is necessary for the proper performance of the functions of the agency, including whether the information will have practical utility; (2) the accuracy of the agency's estimate of the burden of the collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Authority: 44 U.S.C. Chapter 35.

Melissa Bailey,
Associate Administrator, Agricultural Marketing Service.

[FR Doc. 2025-05566 Filed 3-31-25; 8:45 am]

BILLING CODE 3410-02-P